DEPARTMENT OF COMMERCE

International Trade Administration

[C-570-169]

Certain Alkyl Phosphate Esters From the People's Republic of China: Postponement of Preliminary Determination in the Countervailing Duty Investigation

AGENCY: Enforcement and Compliance, International Trade Administration, Department of Commerce.

DATES: Applicable July 5, 2024.

FOR FURTHER INFORMATION CONTACT: Benjamin Nathan or Gregory Taushani, Office II, AD/CVD Operations, Enforcement and Compliance, International Trade Administration, U.S. Department of Commerce, 1401 Constitution Avenue NW, Washington, DC 20230, telephone: (202) 482-3834 or (202) 482-1012, respectively.

SUPPLEMENTARY INFORMATION:

Background

On May 13, 2024, the U.S. Department of Commerce (Commerce) initiated a countervailing duty (CVD) investigation of imports of certain alkyl phosphate esters from the People's Republic of China. Currently, the preliminary determination is due no later than July 17, 2024.

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On June 21, 2024, the petitioner ¹ submitted a timely request to postpone the preliminary determination in the investigation.² The petitioner stated that postponement of the preliminary determination is necessary because the current schedule does not provide Commerce with adequate time to fully analyze the forthcoming questionnaire responses of the mandatory respondents and issue supplemental questionnaires, as necessary.³

¹ The petitioner is ICL-IP America, Inc.

² See Petitioner's Letter, “Request for Postponement of the Preliminary Determination,” dated June 21, 2024.

³ Id.

In accordance with 19 CFR 351.205(e), the petitioner submitted its request for postponement of the preliminary determination in this investigation 25 days or more before the scheduled date of the preliminary determination and stated the reasons for its request. Commerce finds no compelling reason to deny the request. Therefore, in accordance with section 703(c)(1)(A) of the Act, Commerce is postponing the deadline for the preliminary determination in this investigation to no later than 130 days after the date on which it initiated this investigation. The postponed deadline for the preliminary determination is September 20, 2024. Pursuant to section 705(a)(1) of the Act and 19 CFR 351.210(b)(1), the deadline for the final determination in this investigation will continue to be 75 days after the date of the preliminary determination.

This notice is issued and published pursuant to section 703(c)(2) of the Act and 19 CFR 351.205(f)(1).

Dated: June 28, 2024.
Ryan Majerus,
Deputy Assistant Secretary for Policy and Negotiations, performing the non-exclusive functions and duties of the Assistant Secretary for Enforcement and Compliance.

[FR Doc. 2024-14760 Filed 7-3-24; 8:45 am]

BILLING CODE 3510-DS-P